ENVIRONMENTAL PROTECTION AGENCY

40 CFR Part 180

[EPA-HQ-OPP-2011-0082; FRL-8875-6]

Receipt of Several Pesticide Petitions Filed for Residues of Pesticide Chemicals in or on Various Commodities

AGENCY: Environmental Protection Agency (EPA).

ACTION: Notice of filing of petitions and request for comment.

SUMMARY: This document announces the Agency's receipt of several initial filings of pesticide petitions requesting the establishment or modification of regulations for residues of pesticide chemicals in or on various commodities.

DATES: Comments must be received on or before August 5, 2011.

ADDRESSES: Submit your comments, identified by docket identification (ID) number and the pesticide petition number (PP) of interest as shown in the body of this document, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket Facility's normal hours of operation (8:30 a.m. to 4 p.m., Monday through Friday, excluding legal holidays). Special arrangements should be made for deliveries of boxed information. The Docket Facility telephone number is (703) 305-5805.

Instructions: Direct your comments to the docket ID number and the pesticide petition number of interest as shown in the body of this document. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available at http://www.regulations.gov. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: A contact person, with telephone number and e-mail address, is listed at the end of each pesticide petition summary. You may also reach each contact person by mail at Registration Division (7505P), Office of Pesticide Programs, Environmental Protection Agency, 1200 Pennsylvania Ave., NW., Washington, DC 20460-0001.

SUPPLEMENTARY INFORMATION:

I. General Information

A. Does this action apply to me?

You may be potentially affected by this action if you are an agricultural producer, food manufacturer, or pesticide manufacturer. Potentially affected entities may include, but are not limited to:

• Crop production (NAICS code 111).

• Animal production (NAICS code 112).

• Food manufacturing (NAICS code 311).

• Pesticide manufacturing (NAICS code 32532).

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed at the end of the pesticide petition summary of interest.

B. What should I consider as I prepare my comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. What action is the agency taking?

EPA is announcing its receipt of several pesticide petitions filed under section 408 of the Federal Food, Drug, and Cosmetic Act (FFDCA), 21 U.S.C. 346a, requesting the establishment or modification of regulations in 40 CFR part 174 or part 180 for residues of pesticide chemicals in or on various food commodities. The Agency is taking public comment on the requests before responding to the petitioners. EPA is not proposing any particular action at this time. EPA has determined that the pesticide petitions described in this document contain the data or information prescribed in FFDCA section 408(d)(2); however, EPA has not fully evaluated the sufficiency of the submitted data at this time or whether the data support granting of the pesticide petitions. After considering the public comments, EPA intends to evaluate whether and what action may be warranted. Additional data may be needed before EPA can make a final determination on these pesticide petitions.

Pursuant to 40 CFR 180.7(f), a summary of each of the petitions that are the subject of this document, prepared by the petitioner, is included in a docket EPA has created for each rulemaking. The docket for each of the petitions is available on-line at http://www.regulations.gov.

As specified in FFDCA section 408(d)(3), (21 U.S.C. 346a(d)(3)), EPA is publishing notice of the petition so that the public has an opportunity to comment on this request for the establishment or modification of regulations for residues of pesticides in or on food commodities. Further information on the petition may be obtained through the petition summary referenced in this unit.

New Tolerances

1. PP 0E7754. (EPA-HQ-OPP-2010-0820). Quimica Agronomica de Mexico, S. de R.L. MI., Calle 18 N° 20501, Colonia Impulso, C.P. 31183, Chihuahua, Chih., Mexico c/o Gowan Company, P.O. Box 5569, Yuma, AZ 85366, requests to establish a tolerance in 40 CFR part 180 for residues of the fungicide gentamicin, in or on cucurbits (crop group 9) at 0.05 parts per million (ppm) and fruiting vegetables (crop group 8) at 0.05 ppm. An analytical method was developed and used to quantitate residues of gentamicin and oxytetracycline. Briefly, residues of gentamicin were extracted from samples. The extraction was conducted with a homogenizer and extracts were centrifuged and decanted into a mixing cylinder. Extraction buffer and methanol were added to the centrifuge tube, centrifuged, and shaken a total of two times, with each extract combined in the mixing cylinder. The sample was brought to final volume with water and mixed in preparation for liquid chromatography/tandem mass spectrometry (LC/MS/MS) analysis. Contact: Shaunta Hill, (703) 347-8961, e-mail address: hill.shaunta@epa.gov.

2. PP 0E7818. (EPA-HQ-OPP-2011-0086). Interregional Research Project No. 4 (IR-4), 500 College Rd. East, Suite 201W, Princeton, NJ 08540, proposes to establish a tolerance in 40 CFR part 180 for residues of the fungicide acibenzolar S-methyl, in or on low growing berry subgroup 13-07G at 0.15 ppm. The analytical method involves extraction, solid phase cleanup of samples with analysis by high performance liquid chromatography (HPLC) with ultraviolet (UV) detection or confirmatory LC/MS. Contact: Sidney C. Jackson, (703) 305-7610, e-mail address: jackson.sidney@epa.gov.

3. PP 1E7847. (EPA-HQ-OPP-2010-0904). IR-4, 500 College Rd. East, Suite 201W, Princeton, NJ 08540, proposes to establish tolerances in 40 CFR part 180 for residues of the insecticide bifenazate (hydrazine carboxylic acid, 2-(4-methoxy-[1,1′-biphenyl]-3-yl) 1-methylethyl ester) in or on herb subgroup 19A, fresh leaves at 30 ppm; herb subgroup 19A, dried leaves, except chervil, dried and chive, dried at 140 ppm; fruit, pome, group 11-10 at 0.75 ppm; vegetable, fruiting, group 8-10 at 2.0 ppm; timothy, forage at 140 ppm; and timothy, hay at 120 ppm. Chemtura Corporation has developed practical analytical methodology for detecting and measuring residues of bifenazate in or on raw agricultural commodities. Contact: Andrew Ertman, (703) 308-9367, e-mail address: ertman.andrew@epa.gov.

4. PP 1F7838. (EPA-HQ-OPP-2011-0427). FMC Corporation, 1735 Market St., Philadelphia, PA 19103, requests to establish a tolerance in 40 CFR part 180 for residues of the herbicide sulfentrazone (N-[2,4-dichloro-5-[4-(difluoromethyl)-4,5-dihydro-3-methyl-5-oxo-1H-1,2,4-triazol-1-yl]phenyl]-methanesulfonamide) and its metabolites 3-hydroxymethyl-sulfentrazone (N-[2,4-dichloro-5-[4-(difluoromethyl)-4,5-dihydro-3-hydroxymethyl-5-oxo-1H-1,2,4-triazol-1-yl]phenyl]methanesulfonamide) and 3-desmethyl sulfentrazone (N-[2,4-dichloro-5-[4-(difluoromethyl)-4,5-dihydro-5-oxo-1H-1,2,4-triazol-1-yl]phenyl]methanesulfonamide), in or on crop group10-10 citrus fruit at 0.15 ppm; crop group 13-07 berry and small fruit at 0.15 ppm; crop group14 tree nut and pistachio at 0.15 ppm; and crop group 18 non-grass animal feed (forage, fodder, straw, and hay): Alfalfa, forage at 5 ppm; alfalfa, hay at 20 ppm; alfalfa, seed at 3 ppm; clover, forage at 5 ppm; clover, hay at 20 ppm; and clover, seed at 3 ppm. The analytical enforcement method for sulfentrazone was used with minor modification that eliminated several cleanup and derivatization steps that was required for gas chromatography/mass spectrometry detection (GC/MSD) but not for LC/MS/MS. The analytical method for sulfentrazone involves separate analyses for parent and its metabolites. The parent is analyzed by evaporation and reconstitution of the sample prior to analysis by LC/MS/MS GC/electron capture detection (ECD). The metabolites samples were refluxed in the presence of acid and cleaned up with solid phase extraction prior to analysis by LC/MS/MS. Contact: Bethany Benbow, (703) 347-8072, e-mail address: benbow.bethany@epa.gov.

5. PP 1F7839. (EPA-HQ-OPP-2011-0428). FMC Corporation, 1735 Market St., Philadelphia, PA 19103, requests to establish a tolerance in 40 CFR part 180 for residues of the herbicide carfentrazone-ethyl (ethyl-alpha-2-dichloro-5-[-4-(difluoromethyl)-4,5-dihydro-3-methyl-5-oxo-1 H -1,2,4-triazol-1-yl]-4-fluorobenzene propanoate) and its metabolite: Carfentrazone-chloropropionic acid (alpha, 2-dichloro-5-[-4-difluoromethyl)-4,5-dihydro-3-methyl-5-oxo-1 H -1,2,4-triazol-1-yl]-4-fluorobenzenepropanoic acid) in or on crop group 18 non-grass animal feed (forage, fodder, straw, and hay): Alfalfa, forage at 5 ppm; alfalfa, hay at 18 ppm; alfalfa, seed at 10 ppm; clover, forage at 5 ppm; clover, hay at 18 ppm; and clover, seed at 10 ppm. The analytical enforcement method for carfentrazone-ethyl was used with minor modification that eliminated several clean-up and derivatization steps that was required for GC/MSD but not for LC/MS/MS. The analytical method for carfentrazone-ethyl involves separate analyses for parent and its metabolite. The parent is analyzed by evaporation and reconstitution of the sample prior to analysis by LC/MS/MS GC/ECD. The metabolite samples were refluxed in the presence of acid and cleaned up with solid phase extraction prior to analysis by LC/MS/MS. Contact: Bethany Benbow, (703) 347-8072, e-mail address: benbow.bethany@epa.gov.

6. PP 1F7841. (EPA-HQ-OPP-2011-0357). Valent U.S.A. Company, 1600 Riviera Ave., Walnut Creek, CA 94596-8025, proposes to establish tolerances in 40 CFR part 180 for residues of the fungicide fenpyrazamine in or on almond at 0.02 ppm; almond, hulls at 1.5 ppm; small fruit vine climbing (except fuzzy kiwifruit) subgroup 13-07F at 3.5 ppm; raisin at 4.5 ppm; grape, juice at 7.0 ppm; lettuce, head at 2.5 ppm; lettuce, leaf lettuce at 2.5 ppm; and low growing berry subgroup 13-07G at 3.0 ppm. A practical analytical method utilizing LC/MSD is available and has been validated for detecting and measuring residues of fenpyrazamine (fenpyrazamine and S-2188-DC) in and on crops. Contact: Gene Benbow, (703) 347-0235, e-mail address: benbow.gene@epa.gov.

7. PP 1F7844. (EPA-HQ-OPP-2011-0403). Nippon Soda Co., Ltd., c/o Nisso America, Inc., 45 Broadway, Suite 2120, New York, NY 10006, requests to establish a tolerance in 40 CFR part 180 for residues of the insecticide acetamiprid, in or on soybean, seed at 0.02 ppm; and soybean, hulls at 0.04 ppm. A method was developed that involves extraction of acetamiprid from soybean matrices with a solvent followed by a decantation and filtration and finally, analysis by a LC/MS/MS method. Contact: Jennifer Urbanski, (703) 347-0156, e-mail address: urbanski.jennifer@epa.gov.

Amended Tolerances

1. PP 0E7818. (EPA-HQ-OPP-2011-0086). IR-4, 500 College Rd. East, Suite 201W, Princeton, NJ 08540, proposes to amend the tolerance in 40 CFR 180.561 for residues of the fungicide acibenzolar-S-methyl by combining the tables for paragraphs (a)(1) and (a)(2) into one table under paragraph (a)(1), and by removing paragraph (a)(2). The petition further proposes to revise the tolerance expression under paragraph (a)(1) to read as follows: “Tolerances are established for residues of acibenzolar-S-methyl, benzo(1,2,3)thiadiazole-7-carbothioic acid-S-methyl ester, including its metabolites and degradates, in or on the commodities in the table below. Compliance with the tolerance levels specified below is to be determined by measuring only those acibenzolar-S-methyl residues convertible to benzo(1,2,3)thiadiazole-7-carboxylic acid (CGA-210007), expressed as the stoichiometric equivalent of acibenzolar-S-methyl, in or on the commodity.” The analytical method involves extraction and solid phase cleanup of samples with analysis by HPLC with UV detection or confirmatory LC/MS. Contact: Sidney C. Jackson, (703) 305-7610, e-mail address: jackson.sidney@epa.gov.

2. PP 1E7847. (EPA-HQ-OPP-2010-0904). IR-4, 500 College Rd. East, Suite 201W, Princeton, NJ 08540, proposes to delete tolerances in 40 CFR 180.572 for residues of the insecticide bifenazate: Hydrazine carboxylic acid, 2-(4-methoxy-[1,1′-biphenyl]-3-yl)-methylethyl ester for vegetable, fruiting, group 8 and fruit, pome, group 11 upon approval of the proposed tolerances listed in this petition under “New Tolerance.” Contact: Andrew Ertman, (703) 308-9367, e-mail address: ertman.andrew@epa.gov.

New Tolerance Exemptions

1. PP 1E7835. (EPA-HQ-OPP-2011-0333). Akzo Nobel Surface Chemistry LLC, 909 Mueller Ave., Chattanooga, TN 37406, proposes to establish an exemption from the requirement of a tolerance for methacrylic acid sodium salt (CAS No. 1260001-65-7) when used as a pesticide inert ingredient as a dispersant in pesticide formulations under 40 CFR 180.960. This petition requests the elimination of the need to establish a maximum permissible level for residues of acrylic acid-benzyl methacrylate-1-propanesulfonic acid, 2-methyl-2-[(1-oxo-2-propenyl)amino]-, monosodium salt copolymer acid version in or on all raw agricultural commodities. The petitioner believes no analytical method is needed because this is for an exemption from the requirement of a tolerance without any numerical limitations and this information is generally not required when all the criteria for polymer exemption per 40 CFR 723.250 are met. Contact: William Cutchin, (703) 305-7990, e-mail address: cutchin.william@epa.gov.

2. PP 1E7837. (EPA-HQ-OPP-2011-0376). Huntsman Corporation, 10003 Woodloch Forest Dr., The Woodlands, TX 77380, requests to establish an exemption from the requirement of a tolerance in 40 CFR 180.950 for butylene carbonate (1, 3-dioxolan-2-one, 4-ethyl) (CAS No. 4437-85-8) in or on all raw agricultural commodities when used as a pesticide inert ingredient in pesticide formulations. The petitioner believes no analytical method is needed because they are not applicable or required for the establishment of a tolerance exemption for inert ingredients. Contact: William Cutchin, (703) 305-7990, e-mail address: cutchin.william@epa.gov.

3. PP 1E7862. (EPA-HQ-OPP-2011-0430). BASF Corporation, 100 Campus Dr., Florham Park, NJ 07932, requests to establish an exemption from the requirement of a tolerance for 2-Propenoic acid, polymer with ethenylbenzene and (1-methylethenyl) benzene, sodium salt (CAS No. 129811-24-1) under 40 CFR 180.960 when used as a pesticide inert ingredient as a dispersant in pesticide formulations without limitation. The petitioner believes no analytical method is needed because they are not applicable or required for the establishment of a tolerance exemption for inert ingredients. Contact: Alganesh Debesai, (703) 308-8353, e-mail address: debesai.alganesh@epa.gov.

List of Subjects

Environmental protection, Agricultural commodities, Feed additives, Food additives, Pesticides and pests, Reporting and recordkeeping requirements.

Dated: June 24, 2011.
Lois Rossi,
Director, Registration Division, Office of Pesticide Programs.

[FR Doc. 2011-16873 Filed 7-5-11; 8:45 am]

BILLING CODE 6560-50-P